DEPARTMENT OF HOMELAND SECURITY

Coast Guard

[Docket No. USCG-2020-0487]

Merchant Mariner Medical Advisory Committee; September 2020 Teleconference

AGENCY: U.S. Coast Guard, Department of Homeland Security.

ACTION: Notice of Federal Advisory Committee teleconference meeting.

SUMMARY: The Merchant Mariner Medical Advisory Committee (Committee) and its working groups will meet via teleconference to discuss matters relating to medical certification determinations for issuance of licenses, certificates of registry, and merchant mariners' documents, medical standards and guidelines for the physical qualifications of operators of commercial vessels, medical examiner education, and medical research. The meeting will be open to the public.

DATES: Meeting: The Merchant Mariner Medical Advisory Committee and its working groups will meet by teleconference on Tuesday, September 22, 2020, from 11 a.m. until 2:30 p.m. (EDT). The teleconference may adjourn early if the Committee has completed its business.

Comments and supporting documentation: To ensure your comments are received by Committee members before the teleconference, submit your written comments no later than September 15, 2020.

ADDRESSES: To join the teleconference or to request special accommodations, contact the individual listed in the FOR FURTHER INFORMATION CONTACT section no later than 1 p.m. on September 15, 2020, to obtain the needed information. The number of teleconference lines are limited and will be available on a first-come, first-served basis.

Instructions: You are free to submit comments at any time, including orally at the teleconference as time permits, but if you want Committee members to review your comment before the teleconference, please submit your comments no later than September 15, 2020. We are particularly interested in comments on the issues in the “Agenda” section below. We encourage you to submit comments through the Federal eRulemaking Portal at https://www.regulations.gov. If your material cannot be submitted using https://www.regulations.gov, call or email the individual in the FOR FURTHER INFORMATION CONTACT section of this document for alternate instructions. You must include the docket number [USCG-2020-0487]. Comments received will be posted without alteration at http://www.regulations.gov, including any personal information provided. For more about privacy and submissions in response to this document, see DHS's eRulemaking System of Records notice (85 FR 14226, March 11, 2020). If you encounter technical difficulties with comment submission, contact the individual listed in the FOR FURTHER INFORMATION CONTACT section of this notice.

Docket Search: Documents mentioned in this notice as being available in the docket, and all public comments, will be in our online docket at https://www.regulations.gov and can be viewed by following that website's instructions. Additionally, if you go to the online docket and sign-up for email alerts, you will be notified when comments are posted.

FOR FURTHER INFORMATION CONTACT: Mr. Michael Lalor, Alternate Designated Federal Officer of the Merchant Mariner Medical Advisory Committee, 2703 Martin Luther King Jr. Ave. SE, Stop 7509, Washington, DC 20593-7509, telephone 202-372-1361, fax 202-372-4908 or michael.w.lalor@uscg.mil.

SUPPLEMENTARY INFORMATION: Notice of this meeting is in compliance with the Federal Advisory Committee Act, 5 U.S.C. Appendix.

The Merchant Mariner Medical Advisory Committee Meeting is authorized by U.S. Code, Title 46, section 7115. The Committee advises the Secretary of the Department of Homeland Security on matters related to: (a) Medical certification determinations for issuance of licenses, certificates of registry, and merchant mariners' documents; (b) medical standards and guidelines for the physical qualifications of operators of commercial vessels; (c) medical examiner education; and (d) medical research.

Agenda

The agenda for the September 22, 2020, teleconference is as follows:

(1) Introduction.

(2) Designated Federal Officer remarks.

(3) Remarks from the Committee Chairman.

(4) Remarks from U.S. Coast Guard Leadership.

(5) Roll call of Committee members and determination of a quorum.

(6) Report on Status of Working Groups, Determination on Intercessional Meetings and Discussion of Working Group recommendations. The Committee will review the information presented on each issue, deliberate on any recommendations presented by the Working Groups, approve/formulate recommendations and close any completed tasks. Official action on these recommendations may be taken:

(a) Task Statement 18-27, Recommendations on Mariner Mental Health;

(b) Task Statement 18-28, Communication Between External Stakeholders and the Mariner Credentialing Program;

(c) Task Statement 19-29, Review of CG Forms CG-719K, CG-719K/E, and CG-719P;

(d) Task Statement 19-30, Additional Guidance on Conduct of the General Medical Exam; and

(e) Task Statement 19-31, Medical Certifications for Military to Mariner Applicants.

(7) Update from the National Maritime Center, Medical Evaluations Division.

(8) Discussion on transition to the National Merchant Mariner Medical Advisory Committee (N-MEDMAC).

(9) Public comment period.

(10) Committee Member Recognitions.

(11) Closing remarks/plans for next meeting.

(12) Adjournment of meeting.

A copy of all meeting documentation will be available at https://homeport.uscg.mil/missions/ports-and-waterways/safety-advisory-committees/ no later than September 15, 2020. Alternatively, you may contact Mr. Michael Lalor as noted in the FOR FURTHER INFORMATION CONTACT section above.

During the September 22, 2020 teleconference, a public comment period will be held immediately after the discussion of the transition to the N-MEDMAC at approximately 2:00 p.m. Public comments will be limited to two minutes per speaker. Please note that the public comment periods will end following the last call for comments. Please contact the individual listed in the FOR FURTHER INFORMATION CONTACT section, to register as a speaker.

Dated: August 17, 2020.
Jeffrey G. Lantz,
Director of Commercial Regulations and Standards.

[FR Doc. 2020-18333 Filed 8-20-20; 8:45 am]

BILLING CODE 9110-04-P